DEPARTMENT OF HOUSING AND URBAN DEVELOPMENT

[Docket No. FR-4980-N-50]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Ezzell, room 7266, Department of Housing and Urban Development, 451 Seventh Street, SW., Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to John Hicks, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Agriculture: Ms. Marsha Pruitt, Department of Agriculture, Reporters Building, 300 7th St., SW., Washington, DC 20250; (202) 720-4335; Coast Guard: Commandant, U.S. Coast Guard, Attn: Teresa Sheinberg, 2100 Second St., SW., Rm 6109, Washington, DC 20593-0001; (202) 267-6142; Energy: Mr. Andy Duran, Department of Energy, Office of Engineering & Construction Management, ME-90, 1000 Independence Ave., SW., Washington, DC 20585; (202) 586-4548; GSA: Mr. John Kelly, Acting Deputy Assistant Commissioner, General Services Administration, Office of Property Disposal, 18th & F Streets, NW., Washington, DC 20405; (202) 501-0084; Navy: Mr. Warren Meekins, Department of the Navy, Real Estate Services, Naval Facilities Engineering Command, Washington Navy Yard, 1322 Patterson Ave., SE., Suite 1000, Washington, DC 20374-5065; (202) 685-9305; (These are not toll-free numbers).

Dated: December 8, 2005.
Mark R. Johnston,
Director, Office of Special Needs Assistance Programs.

Title V, Federal Surplus Property Program Federal Register Report for 12/16/2005

Suitable/Available Properties

Buildings (by State)

California

Indian Creek Tullis Property

Hwy 299

Douglas City Co: Trinity CA 96024-0162

Landholding Agency: GSA

Property Number: 54200540017

Status: Surplus

Comment: 919 sq. ft., residential bldg. and two garage/storage bldgs., off-site use only

GSA Number: 9-I-CA-1652

Nebraska

Federal Building

106 S. 15th Street

Omaha Co: Douglas NE 68102-

Landholding Agency: GSA

Property Number: 54200540018

Status: Excess

Comment: 120,431 sq. ft., 12 floors, possible asbestos/lead paint, most recent use—office, historic covenants will be required, needs rehab, Federal tenants to vacate in approximately 2 years

GSA Number: 7-G-ME-0520

Suitable/Unavailable Properties

Building (by State)

Maryland

Tower Site D

Fort Detrick

Damascus Co: Howard MD 20872-

Landholding Agency: GSA

Property Number: 54200540020

Status: Excess

Comment: 2.71 acre parcel with 3143 sq. ft. communications bldg., storage, steel tower, presence of asbestos/lead paint

GSA Number: 4-D-MD-0620

Unsuitable Properties

Buildings (by State)

Hawaii

Bldg. 158

Naval Station

Pearl Harbor Co: Honolulu HI 96860-

Landholding Agency: Navy

Property Number: 77200540024

Status: Excess

Reason: Extensive deterioration

Bldg. 453, 454

Naval Station

Pearl Harbor Co: Honolulu HI 96860-

Landholding Agency: Navy

Property Number: 77200540025

Status: Excess

Reason: Extensive deterioration

Bldg. 437

Naval Magazine

West Loch Branch

Ewa Beach Co: Honolulu HI 96706-

Landholding Agency: Navy

Property Number: 77200540026

Status: Unutilized

Reason: Extensive deterioration

Unsuitable Properties

Buildings (by State)

Hawaii

Bldg. 570, 571

Naval Magazine

West Loch Branch

Ewa Beach Co: Honolulu HI 96706-

Landholding Agency: Navy

Property Number: 77200540027

Status: Unutilized

Reason: Extensive deterioration

Indiana

Bldg. 1820

Naval Support Activity

Crane Co: Martin IN 47522-

Landholding Agency: Navy

Property Number: 77200540028

Status: Unutilized

Reason: Extensive deterioration

Bldg. 2694

Naval Support Activity

Crane Co: Martin IN 47522-

Landholding Agency: Navy

Property Number: 77200540029

Status: Unutilized

Reason: Extensive deterioration

Unsuitable Properties

Buildings (by State)

New Jersey

Bldgs. 475, 476

Naval Weapons Station

Colts Neck Co: NJ 07722-

Landholding Agency: Navy

Property Number: 77200540030

Status: Unutilized

Reason: Extensive deterioration

Bldgs. C-4, C-58

Naval Weapons Station

Colts Neck Co: NJ 07722-

Landholding Agency: Navy

Property Number: 77200540031

Status: Unutilized

Reason: Extensive deterioration

Bldg. D-1A

Naval Weapons Station

Colts Neck Co: NJ 07722-

Landholding Agency: Navy

Property Number: 77200540032

Status: Unutilized

Reason: Extensive deterioration

Unsuitable Properties

Buildings (by State)

New Jersey

Bldgs. D-2, D-3, D-4

Naval Weapons Station

Colts Neck Co: NJ 07722-

Landholding Agency: Navy

Property Number: 77200540033

Status: Unutilized

Reason: Extensive deterioration

Bldg. EA-1

Naval Weapons Station

Colts Neck Co: NJ 07722-

Landholding Agency: Navy

Property Number: 77200540034

Status: Unutilized

Reason: Extensive deterioration

Bldg. HA-1A

Naval Weapons Station

Colts Neck Co: NJ 07722-

Landholding Agency: Navy

Property Number: 77200540035

Status: Unutilized

Reason: Extensive deterioration

Unsuitable Properties

Buildings (by State)

New Jersey

Bldg. S-31, S-219

Naval Weapons Station

Colts Neck Co: NJ 07722-

Landholding Agency: Navy

Property Number: 77200540036

Status: Unutilized

Reason: Extensive deterioration

North Carolina

RPFN 0S1

Group Cape Hatteras

Buxton Co: Dare NC 27902-

Landholding Agency: Coast Guard

Property Number: 88200540001

Status: Unutilized

Reason: Secure Area, Extensive deterioration

RPFN 053

Sector N.C.

Atlantic Beach Co: Carteret NC 28512-

Landholding Agency: Coast Guard

Property Number: 88200540002

Status: Unutilized

Reason: Secure Area, Extensive deterioration

Unsuitable Properties

Buildings (by State)

Oregon

Federal Office Building

511 N.W. Broadway

Portland Co: Multnomah OR 97205-

Landholding Agency: GSA

Property Number: 54200540019

Status: Excess

Reason: Within 2000 ft. of flammable or explosive material

GSA Number: 9-G-OR-0745

South Carolina

Bldg. 33

U.S. Vegetable Laboratory

Charleston Co: SC 29414-

Landholding Agency: Agriculture

Property Number: 15200540001

Status: Unutilized

Reason: Extensive deterioration

Texas

4 Bldgs.

NNSA Pantex Plant

Amarillo Co: Carson TX 79120-

12-009, 12-009A, 12-R-009A, 12-R-009B

Landholding Agency: Energy

Property Number: 41200540002

Status: Unutilized

Reason: Within 2000 ft. of flammable or explosive material, Secured Area

Unsuitable Properties

Buildings (by State)

Texas

Bldg. 12-011A

NNSA Pantex Plant

Amarillo Co: Carson TX 79120-

Landholding Agency: Energy

Property Number: 41200540003

Status: Unutilized

Reasons: Within 2000 ft. of flammable or explosive material Secured Area

Bldg. 12-097

NNSA Pantex Plant

Amarillo Co: Carson TX 79120-

Landholding Agency: Energy

Property Number: 41200540004

Status: Unutilized

Reasons: Within 2000 ft. of flammable or explosive material, Secured Area

Unsuitable Properties

Land (by State)

New Jersey

Laboratory

986 Jersey Avenue

New Brunswick Co: NJ 08903-

Landholding Agency: GSA

Property Number: 54200540021

Status: Excess

Reason: Within 2000 ft. of flammable or explosive material

GSA Number: 1-B-NJ-0656

[FR Doc. 05-23980 Filed 12-15-05; 8:45 am]

BILLING CODE 4210-29-M